DEPARTMENT OF COMMERCE

International Trade Administration

[A-570-117]

Wood Mouldings and Millwork Products From the People's Republic of China: Final Results and Partial Rescission of Antidumping Duty Administrative Review; 2022-2023

AGENCY: Enforcement and Compliance, International Trade Administration, Department of Commerce.

SUMMARY: The U.S. Department of Commerce (Commerce) determines that Fujian Jinquan Trade Co., Ltd./Baiyuan Wood Machining Co., Ltd. (Jinquan/Baiyuan) and 22 non-individually examined exporters of wood mouldings and millworks products (WMMP) from the People's Republic of China (China) sold subject merchandise to the United States at prices below normal value (NV) during the period of review (POR), February 01, 2022, through January 31, 2023. Commerce also determines that Fujian Yinfeng Imp & Exp Trading Co., Ltd./Fujian Province Youxi City Mangrove Wood Machining Co., Ltd. (Yinfeng/Mangrove) did not sell subject merchandise to the United States at prices below NV during the POR. Additionally, we are rescinding this review with respect to 12 companies that had no reviewable entries of subject merchandise during the POR.

DATES: Applicable September 18, 2024.

FOR FURTHER INFORMATION CONTACT: Brian Smith or Hannah Lee, AD/CVD Operations, Office VIII, Enforcement and Compliance, International Trade Administration, Department of Commerce, 1401 Constitution Avenue NW, Washington, DC 20230; telephone: (202) 482-1766 or (202) 482-1216, respectively.

SUPPLEMENTARY INFORMATION:

Background

On March 8, 2024, Commerce published the Preliminary Results.¹ On June 22, 2024, Commerce tolled certain deadlines in this administrative proceeding by seven days.² The deadline for these preliminary results is now September 11, 2024. For events subsequent to the Preliminary Results, see the Issues and Decision Memorandum.³

¹ See Wood Mouldings and Millwork Products from the People's Republic of China: Preliminary Results, Intent To Rescind, in Part, and Rescission in Part, of Antidumping Duty Administrative Review; 2022-2023, 89 FR 16726 (March 8, 2024) (Preliminary Results), and accompanying Preliminary Decision Memorandum (PDM).

² See Memorandum, “Tolling of Deadlines for Antidumping and Countervailing Duty Proceedings,” dated July 22, 2024.

³ See Memorandum, “Decision Memorandum for the Final Results of the Antidumping Duty Administrative Review Wood Mouldings and Millwork Products from the People's Republic of China; 2022-2023,” dated concurrently with, and hereby adopted by, this notice (Issues and Decision Memorandum).

Scope of the Order ⁴

⁴ See Wood Mouldings and Millwork Products from the People's Republic of China: Amended Final Antidumping Duty Determination and Antidumping Duty Order, 86 FR 9486 (February 16, 2021) (Order).

The merchandise covered by the Order is wood mouldings and millwork products. A full description of the scope of the Order is contained in the Issues and Decision Memorandum.

Analysis of Comments Received

All issues raised by interested parties in briefs are addressed in the Issues and Decision Memorandum. A list of the issues addressed in the Issues and Decision Memorandum is provided in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review and analysis of the comments received from the interested parties, we made one change to the Preliminary Results margin calculation for Jinquan/Baiyuan ⁵ which resulted in no change to its preliminary margin or to the margin assigned to the separate rate companies.

⁵ See Memorandum, “Final Results Margin Calculation for Jinquan/Baiyuan,” dated concurrently with this notice (Jinquan/Baiyuan's Final Calculation Memorandum).

Partial Rescission

In the Preliminary Results, we stated that we intended to rescind this review with respect to 12 companies ⁶ for which Customs and Border Protection (CBP) data show no entries of the subject merchandise from these companies during the POR.⁷ No party filed comments with respect to this preliminary finding and we received no information to contradict it. Therefore, we are rescinding this administrative review with respect to these companies.

⁶ See Appendix III for a list of these companies.

⁷ See Preliminary Results, 89 FR at 16726.

Rate for Non-Examined Separate Rate Respondents

The statute and our regulations do not address the establishment of a rate to be assigned to respondents not selected for individual examination when we limit our examination of companies subject to the administrative review pursuant to section 777A(c)(2)(B) of the Tariff Act of 1930, as amended (the Act). Generally, we look to section 735(c)(5) of the Act, which provides instructions for calculating the all-others rate in an investigation, for guidance when calculating the rate for respondents not individually examined in an administrative review. Under section 735(c)(5)(A) of the Act, the all-others rate is normally “an amount equal to the weighted average of the estimated weighted average dumping margins established for exporters and producers individually investigated, excluding any zero and de minimis margins, and any margins determined entirely {on the basis of facts available}.” Accordingly, Commerce's usual practice in determining the rate for separate-rate respondents not selected for individual examination, has been to average the weighted-average dumping margins of the selected companies, excluding rates that are zero, de minimis, or based entirely on facts available.⁸ Because in these final results of this review we calculated a dumping margin of zero for Yinfeng/Mangrove, and a dumping margin that is not zero, de minimis, or based entirely on facts available for Jinquan/Baiyuan, we assigned the separate-rate recipients a dumping margin equal to Jinquan/Baiyuan's final dumping margin consistent with Commerce's practice and section 735(c)(5)(B) of the Act.⁹

⁸ See section 735(c)(5)(A) of the Act.

⁹ See Longkou Haimeng Mach. Co. v. United States, 581 F. Supp. 2d 1344, 1357-60 (CIT 2008) (affirming Commerce's determination to assign a 4.22 percent dumping margin to the separate-rate respondents in a segment where the three mandatory respondents received dumping margins of 4.22 percent, 0.03 percent, and zero percent, respectively); see also Certain Kitchen Appliance Shelving and Racks from the People's Republic of China: Final Determination of Sales at Less Than Fair Value, 74 FR 36656, 36660 (July 24, 2009).

The China-Wide Entity

In the Preliminary Results, Commerce found that four companies ¹⁰ did not establish eligibility for a separate rate because they did not file a timely separate rate application or a separate rate certification, as appropriate.¹¹ No party filed comments with respect to this preliminary finding and we received no information to contradict it. Therefore, for these final results, we determine these four companies to be part of the China-wide entity and assigned them the dumping margin for the China-wide entity. Because no party requested a review of the China-wide entity, and Commerce no longer considers the China-wide entity as an exporter conditionally subject to administrative reviews,¹² we did not conduct a review of the China-wide entity. Thus, the dumping margin for the China-wide entity, as adjusted for export subsidies (i.e., 220.87 percent),¹³ is not subject to change as a result of this review.

¹⁰ These companies are: (1) Aventra, Inc. (Aventra); (2) China Cornici, Co. Ltd. (China Cornici); (3) Gaomi Hongtai Home Furniture Co., Ltd. (Gaomi Hongtai); and (4) and Shuyang Zhongding Decoration Materials Co., Ltd. (Shuyang Zhongding).

¹¹ See Preliminary Results PDM at 13.

¹² See Antidumping Proceedings: Announcement of Change in Department Practice for Respondent Selection in Antidumping Duty Proceedings and Conditional Review of the Nonmarket Economy Entity in NME Antidumping Duty Proceedings, 78 FR 65963, 65969-70 (November 4, 2013).

¹³ See Order, 86 FR at 9488. The weighted-average dumping margin for the China-wide entity (231.60 percent) was adjusted for export subsidies to determine the cash deposit rate (220.87 percent) for companies in the China-wide entity.

Final Results of Review

Commerce determines that the following estimated weighted-average dumping margins exist for the period February 1, 2022, through January 31, 2023:

¹⁴ See Appendix II.

Exporters | Weighted- average dumping margin (percent)
Fujian Jinquan Trade Co., Ltd./Baiyuan Wood Machining Co., Ltd | 4.25
Yinfeng Imp & Exp Trading Co., Ltd./Fujian Province Youxi City Mangrove Wood Machining Co., Ltd | 0.00
Non-Selected Companies Under Review Receiving a Separate Rate ¹⁴ | 4.25

Disclosure

We intend to disclose the calculations performed to parties in this proceeding within five days of the date of publication of this notice in accordance with 19 CFR 351.224(b).

Assessment Rates

Pursuant to section 751(a)(2)(C) of the Act and 19 CFR 351.212(b), Commerce has determined, and CBP shall assess, antidumping duties on all appropriate entries of subject merchandise in accordance with these final results of review. Commerce intends to issue assessment instructions to CBP no earlier than 35 days after the date of publication of these final results. If a timely summons is filed at the U.S. Court of International Trade, the assessment instructions will direct CBP not to liquidate relevant entries until the time for parties to file a request for a statutory injunction has expired (i.e., within 90 days of publication).

Because Jinquan/Baiyuan's ad valorem weighted-average final dumping margin is not zero or de minimis (i.e., less than 0.50 percent), we have calculated importer-specific assessment rates for this respondent, in accordance with 19 CFR 351.212(b)(1).¹⁵

¹⁵ In these preliminary results, Commerce applied the assessment rate calculation method adopted in Antidumping Proceedings: Calculation of the Weighted-Average Dumping Margin and Assessment Rate in Certain Antidumping Proceedings: Final Modification, 77 FR 8101 (February 14, 2012).

For sales for which Jinquan/Baiyuan reported entered value, we have calculated importer-specific ad valorem assessment rates based on the ratio of the total amount of dumping calculated for each importer's examined sales to the total entered value of those sales, in accordance with 19 CFR 351.212(b)(1). For sales for which Jinquan/Baiyuan did not report entered value, we have calculated importer-specific per-unit duty assessment rates based on the ratio of the total amount of antidumping duties calculated for the examined sales to the total quantity of those sales. To determine whether an importer-specific, per-unit assessment rate is de minimis, in accordance with 19 CFR 351.106(c)(2), we also calculated an importer-specific ad valorem ratio based on estimated entered values.

For Yinfeng/Mangrove, we will instruct CBP to liquidate the appropriate entries without regard to antidumping duties.¹⁶ For entries that were not reported in the U.S. sales databases submitted by Yinfeng/Mangrove and Jinquan/Baiyuan during this review, Commerce will instruct CBP to liquidate such entries at the China-wide rate (i.e., 220.87 percent).

¹⁶ See 19 CFR 351.106(c)(2).

For the companies identified as part of the China-wide entity (i.e., Aventra, China Cornici, Gaomi Hongtai and Shuyang Zhongding), we will instruct CBP to apply the China-wide rate (i.e., 220.87 percent) to all entries of subject merchandise during the POR which were exported by these companies.

For the 12 companies listed in Appendix III, for which the administrative review is rescinded, antidumping duties shall be assessed at a rate equal to the cash deposit of estimated antidumping duties required at the time of entry, or withdrawal from warehouse, for consumption, in accordance with 19 CFR 351.212(c)(1)(i).

Cash Deposit Requirements

The following cash deposit requirements will be effective upon publication of the final results of this administrative review for all shipments of the subject merchandise from China entered, or withdrawn from warehouse, for consumption on or after the publication date, as provided by section 751(a)(2)(C) of the Act: (1) for Yinfeng/Mangrove, the cash deposit rate will be zero; (2) for Jinquan/Baiyuan and the other companies which were found eligible for a separate rate, the cash deposit rate will be 4.25 percent; (3) for previously investigated or reviewed Chinese and non-Chinese exporters not listed above that have separate rates, the cash deposit rate will continue to be the exporter-specific rate published for the most recently completed segment of this proceeding in which they were reviewed; (4) for all Chinese exporters of subject merchandise that have not been found to be entitled to a separate rate, the cash deposit rate will be equal to the weighted-average dumping margin for the China-wide entity (i.e., 220.87 percent); and (5) for all non-Chinese exporters of subject merchandise which have not received their own separate rate, the cash deposit rate will be the rate applicable to the Chinese exporter(s) that supplied that non-Chinese exporter. These per-unit cash deposit requirements, when imposed, shall remain in effect until further notice.

Notification to Importers Regarding the Reimbursement of Duties

This notice also serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties has occurred and the subsequent assessment of double antidumping duties, and/or increase in the amount of antidumping duties by the amount of the countervailing duties.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i) of the Act and 19 CFR 351.221(b)(5) and 19 CFR 351.213(h)(2).

Dated: September 11, 2024.
Ryan Majerus,
Deputy Assistant Secretary for Policy and Negotiations, performing the non-exclusive functions and duties of the Assistant Secretary for Enforcement and Compliance.

Appendix I

List of Topics Discussed in the Issues and Decision Memorandum

I. Summary

II. Background

III. Scope of the Order

IV. Changes Since the Preliminary Results

V. Discussion of the Issues

General

Comment 1: Whether to Apply Adverse Facts Available to Yinfeng/Mangrove and Jinquan/Baiyuan

Comment 2: Labor Surrogate Value Selection

Comment 3: Selection of Surrogate Producers

Comment 4: Market Economy Purchases

Jinquan/Baiyuan

Comment 5: Jinquan/Baiyuan's Electricity Offset

Comment 6: Freight Revenue Cap

Comment 7: Exclusion of Certain U.S. Sales With Entry Dates After the POR

Comment 8: Valuation of Wood Powder

Comment 9: Valuation of Radiata Pine Log

Separate Rate Companies

Comment 10: Liquidation Instructions for CTIL

Appendix II

Non-Selected Companies Under Review Receiving a Separate Rate

1. Anji Huaxin Bamboo & Wood Products Co., Ltd.

2. Composite Technology International, Limited

3. Fujian Hongjia Craft Products Co., Ltd.

4. Fujian Sanming City Donglai Wood Co., Ltd.

5. Fujian Wangbin Decorative Material Co., Ltd.

6. Fujian Youxi Best Arts & Crafts Co. Ltd.

7. Huaan Longda Wood Industry Co., Ltd.

8. Jiangsu Wenfeng Wood Co., Ltd.

9. Longquan Jiefeng Trade Co., Ltd.

10. Nanping Huatai Wood & Bamboo Co., Ltd.

11. Nicer Window Fashions Co., Ltd.

12. Putian Yihong Wood Industry Co., Ltd.

13. Qimen Jianxing Bamboo and Wood Goods Co., Ltd.

14. Rui Xing Wooden Products Co., Ltd.

15. Shandong Miting Household Co., Ltd.

16. Shaxian Hengtong Wood Industry Co., Ltd.

17. Shaxian Shiyiwood, Ltd.

18. Shuyang Kevin International Co., Ltd.

19. Sun Valley Shade Co., Ltd.

20. Suqian Sulu Import & Export Trading Co., Ltd.

21. Zhangzhou Wangjiamei Industry & Trade Co., Ltd.

22. Zhangzhou Yihong Industrial Co., Ltd.

Appendix III

Companies for Which the Review Is Rescinded

1. Jiangsu Chen Sheng Forestry Development Co., Ltd.

2. Omni One Co., Ltd.

3. Raoping HongRong Handicrafts Co., Ltd.

4. Baixing Import and Export Trading Co., Ltd Youxi Fujian

5. Bel Trade Wood Industrial Co., Ltd. Youxi Fujian

6. Fotiou Frames Limited

7. Fujian Zhangping Kimura Forestry Products Co., Ltd.

8. Homebuild Industries Co., Ltd.

9. Jim Fine Wooden Products Co., Ltd.

10. Shenzhen Xinjintai Industrial Co., Ltd.

11. Tim Feng Manufacturing Co., Ltd.

12. Wuxi Boda Bamboo & Wood Industrial Co., Ltd.

[FR Doc. 2024-21225 Filed 9-17-24; 8:45 am]

BILLING CODE 3510-DS-P